DEPARTMENT OF COMMERCE

International Trade Administration

[C-122-854]

Supercalendered Paper From Canada: Initiation of Expedited Review of the Countervailing Duty Order

AGENCY: Enforcement and Compliance, International Trade Administration, Department of Commerce.

SUMMARY: The Department of Commerce (the Department) is initiating an expedited review of the countervailing duty order on supercalendered paper from Canada with respect to Catalyst Pulp and Paper Sales Inc., Catalyst Paper Corporation, and Catalyst Paper (USA) (collectively, Catalyst) and Irving Paper Limited (Irving).

DATES: Effective date: February 8, 2016.

FOR FURTHER INFORMATION CONTACT: Dana Mermelstein or Toby Vandall, AD/CVD Operations, Enforcement and Compliance, International Trade Administration, U.S. Department of Commerce, 14th Street and Constitution Avenue NW., Washington, DC 20230; telephone (202) 482-1391 and (202) 482-1664, respectively.

SUPPLEMENTARY INFORMATION:

Background

On December 10, 2015, the Department published the countervailing duty order on supercalendered paper from Canada.¹ On December 15 and 16, 2015, the Department received requests from Catalyst and Irving, respectively, to conduct an expedited review of this countervailing duty order.² Irving supplemented its request on January 6, 2015.³ Catalyst and Irving, companies that were not selected for individual examination during the investigation, made these requests pursuant to 19 CFR 351.214(k).

¹ See Supercalendered Paper From Canada: Countervailing Duty Order, 80 FR 76668 (December 10, 2015).

² See letter from Catalyst, “Supercalendered Paper from Canada: Catalyst's Request for Expedited Review,” (December 15, 2015). See also letter from Irving, “Supercalendered Paper from Canada: Expedited Review Request of Irving Paper Limited Pursuant to 19 CFR 351.214(k),” (December 16, 2015).

³ See letter from Irving, “Supercalendered Paper from Canada: Supplement to Expedited Review Request of Irving Paper Limited Pursuant to 19 CFR 351.214(k),” (January 6, 2015).

Initiation of Expedited Review

In accordance with 19 CFR 351.214(k)(1)(i)-(iii), Catalyst and Irving each certified that they exported the subject merchandise to the United States during the period of investigation; that they were not affiliated with an exporter or producer that the Department individually examined in the investigation; and that they informed the Government of Canada, as the government of the exporting country, that the government will be required to provide a full response to the Department's questionnaire.

Therefore, in accordance with 19 CFR 351.214(k), we are initiating an expedited review of the countervailing duty order on supercalendered paper from Canada. Pursuant to 19 CFR 351.214(i)(1) and (k)(3), we intend to issue the preliminary results of this expedited review not later than 180 days from the date of initiation of this review.⁴ As specified by 19 CFR 351.214(k)(3)(i), the period of review will be the same as the original period of investigation, i.e., January 1, 2014, through December 31, 2014.

⁴ Under 19 CFR 351.214(k)(i)(2), this period may be extended to 300 days.

Pursuant to 19 CFR 351.214(k)(3)(iii), the final results of this expedited review will not be the basis for the assessment of countervailing duties. Instead, this expedited review is intended to establish individual cash deposit rates for Catalyst and Irving, or to exclude from the countervailing duty order a company for which the final results of review are zero or de minimis, as provided in 19 CFR 351.214(k)(3)(iv).

Interested parties must submit applications for disclosure under administrative protective orders in accordance with 19 CFR 351.305 and 351.306.

Dated: February 1, 2016.
Gary Taverman,
Associate Deputy Assistant Secretary for Antidumping and Countervailing Duty Operations.

[FR Doc. 2016-02397 Filed 2-5-16; 8:45 am]

BILLING CODE 3510-DS-P